DEPARTMENT OF TRANSPORTATION

Federal Aviation Administration

14 CFR Part 39

[Docket No. FAA-2006-23646; Directorate Identifier 2006-CE-AD; Amendment 39-14563; AD 2006-08-08]

RIN 2120-AA64

Airworthiness Directives; Air Tractor, Inc. Models AT-400; AT-401, AT-401B, AT-402, AT-402A, and AT-402B Airplanes

Correction

In rule document 06-3617 beginning on page 19986 in the issue of Wednesday, April, 19, 2006, make the following corrections:

1. On page 19986, in the second column, under the “ SUMMARY” section, in the 19th line, “Ad” should read “AD”.

2. On the same page, in the same column, under the“DATES” section, “This AD effective on April 21, 2006” should read “This AD becomes effective on April 21, 2006”.

3. On the same page, in the third column, in the second full paragraph, in the fourth line, “2006-CE-05;AD” should read “2006-CE-05-AD”.

4. On page 19987, in the first column, in the first full paragraph, in the second line, “recalculation” should be “recalculated”.

5. On the same page, in the same column, in the same paragraph, in the fourth line, “800” should read “AT-800”.

6. On the same page, in the same column, in the same paragraph, in the 24th line, “lower life” should read “lower safe life”.

7. On the same page, in the same column, in the second full paragraph, in the fifth line, “fir” should read “fire”.

8. On the same page, in the same column, in the third full paragraph, in the fourth line, “(NTSE)” should read “(NTSB)”.

9. On the same page, in the same column, in the same paragraph, in the 20th line, “further the” should read “further reduce the”.

10. On the same page, in the second column, in the first full paragraph, in the seventh line, “life requires” should read “life and requires”.

11. On page 19988, in the first column, under the heading “Comments Invited ” in the 14th line, “your” should read “you”.

12. On the same page, in the same column, under the same heading, in the third line from the bottom, “contract” should read “contact”.

13. On the same page, in the second column, in the first full paragraph, in the fifth line, “206” should read “106”.

§ 39.13 [Corrected]

14. On the same page, in the third column, in §39.13, under the heading

“What Airplanes Are Affected by This AD?”, under paragraph (c), in the 10th line,“(P/N) 21058-1, and” should read “(P/N) 21058-1 and ”.

15. On page 19992, in the first column, in the same section, under the same heading

“May I Request an Alternative Method of Compliance?”, under the second paragraph, in the sixth line,“Forth” should read “Fort”.

16. On the same page, in the same column, in the same section, under the same heading, under paragraph (m), in the second line,

ÿ7E“AD 2001-10 R1” should read “AD 2001-10-04 R1”.

17. On the same page, in the second column, in the same section, in the first full paragraph, in the last line,

ÿ7E“SA009490LA” should read “SA00490LA”.

18. On the same page, in the same column, in the same section, in the third paragraph, in the fourth line,

“SA00940LA” should read “SA00490LA”.

19. On the same page, in the same column, in the same section, underÿ7Eÿ7E the fifth Example:

“TIS - winglet usuage penalty” should read “TIS = winglet usage penalty”.

20. On page 19994, in the first column, in the same section, in the second paragraph, in the first line “al” should read “all”.

[FR Doc. C6-3617 Filed 5-11-06; 8:45 am]

BILLING CODE 1505-01-D

DEPARTMENT OF TRANSPORTATION

Federal Aviation Administration

14 CFR Part 39

[Docket No. FAA-2005-20591; Directorate Identifier 2005-CE-14-AD; Amendment 39-14565; AD 2006-08-09]

RIN 2120-AA64

Airworthiness Directives; Air Tractor, Inc. Models AT-802 and AT-802A Airplanes

Correction

In rule document 06-3613 beginning on page 19994 in the issue of Wednesday, April 19, 2006, make the following corrections:

1. On page 19994, in the third column, under the heading “What is the background of the subject matter? ”, in the first bullet, “AD2000-14-51” should read “AD 2000-14-51”.

2. On the same page, in the same column, under the same heading, in the second bullet, “AD2001-10-04” should read “AD 2001-10-04”.

3. On the same page, in the same column, under the same heading, in the third bullet, “AD2001-10-04 R1” should read “AD 2001-10-04 R1”.

4. On the same page, in the same column, under the same heading, in the fourth bullet, “AD2002-11-05” should read “AD 2002-11-05”.

5. On the same page, in the same column, under the same heading, in the fifth bullet, “AD2002-26-05” should read “AD 2002-26-05”.

6. On page 19995, in the second column, in the first paragraph, in the first line, “AD 2002-22-05” should read “AD 2002-11-05”.

7. On the same page, in the same column, under the heading, “ What has happened to initiate this AD action?” in the seventh line, “winglests” should read “winglets”.

8. On the same page, in the same column, under the same heading, in the first bullet, beginning in the seventh line and ending in the tenth line, the duplicated sentence “A third AT-400 series airplane cracked at 4,176 hours TIS where the reduced safe life was 4,589 hours TIS.” should be removed.

9. On page 19996, in the first column, in the heading “ Will I have the opportunity to comment before you issue the rule?”, in the fifth line, “however we” should read “however, we”.

§ 39.13 [Corrected]

10. On the same page, in the third column, in §39.13, under the heading

“What Airplanes Are Affected by This AD?”, under item (c), “Model AT-802A” should read “Model AT-802 and AT-802A”.

11. On page 19997, in the first column, in the same section, in paragraph (e), under item (3), in the third sentence

“Novembe 19, 2003” should read “November 19, 2003”.

12. On the same page, in the same column, in the same section, in the same paragraph, under item (4),

“Service Letter #420” should read “Service Letter #240.”

13. On the same page, in the second column, in the same section, in the same paragraph, under item (8), in the second line

“September 28, 2005” should read “September 28, 2004”.

14. On the same page, in the same column, in the same section, under the heading

“What Must I Do To Adress This Problem?”, under item (h)(1), in the fourth line, “paragraphs (g)” should read “paragraph (g)”.

15. On the same page, in the same section, under “TABLE 2.”, under the heading “Serial No.” in the fourth entry, “AT-802A-001” should read “AT-802A-0001”.

[FR Doc. C6-3613 Filed 5-11-06; 8:45 am]

BILLING CODE 1505-01-D